DEPARTMENT OF ENERGY

Environmental Management Site-Specific Advisory Board, Paducah

AGENCY: Office of Environmental Management, Department of Energy.

ACTION: Notice of cancellation of open meeting.

SUMMARY: On February 17, 2023, the Department of Energy published a notice of open meeting announcing a meeting on March 16, 2023, of the Environmental Management Site-Specific Advisory Board, Paducah. This notice announces the cancellation of this meeting.

DATES: The meeting scheduled for March 16, 2023, announced in the February 17, 2023, issue of the Federal Register (FR Doc. 2023-03441, 88 FR 10313), is cancelled.

FOR FURTHER INFORMATION CONTACT: Eric Roberts, Board Support Manager, by Phone: (270) 554-3004 or Email: eric@pgdpcab.org.

Signed in Washington, DC, on February 23, 2023.
LaTanya Butler,
Deputy Committee Management Officer.

[FR Doc. 2023-04511 Filed 3-3-23; 8:45 am]

BILLING CODE 6450-01-P